DEPARTMENT OF TRANSPORTATION

Federal Aviation Administration

14 CFR Part 39

[Docket No. FAA-2006-26685; Directorate Identifier 2006-NM-200-AD; Amendment 39-15015; AD 2007-07-14]

RIN 2120-AA64

Airworthiness Directives; Empresa Brasileira de Aeronautica S.A. (EMBRAER) Model EMB-135BJ Airplanes

AGENCY: Federal Aviation Administration (FAA), Department of Transportation (DOT).

ACTION: Final rule.

SUMMARY: The FAA is adopting a new airworthiness directive (AD) for all Empresa Brasileira de Aeronautica S.A. (EMBRAER) Model EMB-135BJ airplanes. This AD requires modifying the forward and aft auxiliary fuel tanks. This AD results from a fuel system reassessment according to SFAR 88 criteria, which revealed the possibility of sparks due to chafing between the harnesses of the forward and aft auxiliary fuel tanks, between certain harnesses attached to the aircraft structure, or between certain harnesses attached to certain mechanical components. We are issuing this AD to prevent a potential ignition source inside a fuel tank, which, in combination with flammable fuel vapors, could result in a fuel tank explosion.

DATES: This AD becomes effective May 10, 2007.

The Director of the Federal Register approved the incorporation by reference of a certain publication listed in the AD as of May 10, 2007.

ADDRESSES: You may examine the AD docket on the Internet at http://dms.dot.gov or in person at the Docket Management Facility, U.S. Department of Transportation, 400 Seventh Street, SW., Nassif Building, Room PL-401, Washington, DC.

Contact Empresa Brasileira de Aeronautica S.A. (EMBRAER), P.O. Box 343—CEP 12.225, Sao Jose dos Campos-SP, Brazil, for service information identified in this AD.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Empresa Brasileira de Aeronautica S.A. (EMBRAER) Model EMB-135BJ airplanes. That NPRM was published in the Federal Register on December 27, 2006 (71 FR 77629). That NPRM proposed to require modifying the forward and aft auxiliary fuel tanks.

Comments

We provided the public the opportunity to participate in the development of this AD. We have considered the comments received.

Request To Change Applicability

Embraer states that the applicability in paragraph (c) of the NPRM specifies the following: “This AD applies to all EMBRAER Model EMB-135BJ airplanes, certificated in any category.” Embraer's position is that the applicability statement would be better as follows: “This AD applies to all EMBRAER Model EMB-135BJ airplanes, certificated in any category, as listed in Embraer Service Bulletin 145LEG-28-0022, original issue, dated February 17, 2005.”

We agree with Embraer. We have determined that changing the applicability of the AD as the commenter recommended would reduce the number of airplanes to specify only those that are affected by the AD requirements; we find that all Model EMB-135BJ airplanes are not affected. Therefore, we have changed paragraph (c) of this AD as follows: “This AD applies to EMBRAER Model EMB-135BJ airplanes, certificated in any category; as identified in Embraer Service Bulletin 145LEG-28-0022, dated February 17, 2005.”

Request To Change Unsafe Condition

Embraer states that paragraph (d) of the NPRM describes the unsafe condition as follows: “This AD results from a report of sparks due to chafing between the harnesses of the forward and aft auxiliary fuel tanks, between certain harnesses attached to the aircraft structure, or between certain harnesses attached to certain mechanical components. We are issuing this AD to prevent a potential ignition source inside a fuel tank, which, in combination with flammable fuel vapors, could result in a fuel tank explosion.” Embraer would like to clarify that no reports of sparks due to chafing between the harnesses of the forward and aft auxiliary fuel tanks were found in the field. Therefore, Embraer suggests that the FAA rewrite the unsafe condition as follows: “This AD results from a fuel system reassessment according to SFAR 88 criteria, it has been found the possibility of sparks due to chafing between the harnesses of the forward and aft auxiliary fuel tanks, between certain harnesses attached to the aircraft structure, or between certain harnesses attached to certain mechanical components. We are issuing this AD to prevent a potential ignition source inside a fuel tank, which, in combination with flammable fuel vapors, could result in a fuel tank explosion.”

We agree to rewrite certain language regarding the unsafe condition for the reason provided by Embraer; however, the language Embraer wants changed is not the unsafe condition, it is actually the reason that the unsafe condition occurred. We have changed the reason in the Summary section and paragraph (d) of this AD; in addition, we have clarified the language the commenter provided above as follows: “This AD results from a fuel system reassessment according to SFAR 88 criteria, which revealed the possibility of sparks due to chafing between the harnesses of the forward and aft auxiliary fuel tanks, between certain harnesses attached to the aircraft structure, or between certain harnesses attached to certain mechanical components.”

Request for Clarification

Embraer notes that paragraph (f)(1) of the NPRM states: “Modify the forward auxiliary fuel tanks.” Embraer would like to clarify that there are two forward auxiliary fuel tanks on the left and right sides. Embraer states that paragraph (f)(1) should be changed for clarification, as follows: “Modify the forward auxiliary fuel tanks on the left and right sides.” We agree with Embraer for the reason provided and have changed paragraph (f)(1) accordingly.

Request To Refer to Revision 1 of Brazilian Airworthiness Directive 2006-07-03

Embraer notes that the Agência Nacional de Aviação Civil, which is the airworthiness authority for Brazil, has issued Brazilian airworthiness directive 2006-07-03R1, effective January 4, 2007. We infer that Embraer is asking that we refer to the revised Brazilian airworthiness directive in the AD. Revision 1 corrects the part numbers of some bonding jumpers, support assemblies, and transfer line tubes. We agree with Embraer and have revised paragraph (h) of this AD to refer to Revision 1 of the Brazilian airworthiness directive.

Conclusion

We have carefully reviewed the available data, including the comments received, and determined that air safety and the public interest require adopting the AD with the changes described previously. These changes will neither increase the economic burden on any operator nor increase the scope of the AD.

Costs of Compliance

This AD affects about 27 airplanes of U.S. registry. The modifications take about 20 work hours per airplane, at an average labor rate of $80 per work hour. Required parts cost $2,200 per airplane. Based on these figures, the estimated cost of the modifications for U.S. operators is $102,600, or $3,800 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-07-14 Empresa Brasileira de Aeronautica S.A. (EMBRAER): Amendment 39-15015. Docket No. FAA-2006-26685; Directorate Identifier 2006-NM-200-AD.

Effective Date

(a) This AD becomes effective May 10, 2007.

Affected ADs

(b) None.

Applicability

(c) This AD applies to EMBRAER Model EMB-135BJ airplanes, certificated in any category; as identified in Embraer Service Bulletin 145LEG-28-0022, dated February 17, 2005.

Unsafe Condition

(d) This AD results from a fuel system reassessment according to SFAR 88 criteria, which revealed the possibility of sparks due to chafing between the harnesses of the forward and aft auxiliary fuel tanks, between certain harnesses attached to the aircraft structure, or between certain harnesses attached to certain mechanical components. We are issuing this AD to prevent a potential ignition source inside a fuel tank, which, in combination with flammable fuel vapors, could result in a fuel tank explosion.

Compliance

(e) You are responsible for having the actions required by this AD performed within the compliance times specified, unless the actions have already been done.

Modifications

(f) Within 5,000 flight hours after the effective date of this AD: Accomplish the modifications specified in paragraphs (f)(1) and (f)(2) of this AD by doing all the applicable actions in accordance with the Accomplishment Instructions of EMBRAER Service Bulletin 145LEG-28-0022, dated February 17, 2005.

(1) Modify the forward auxiliary fuel tanks on the left and right sides.

(2) Modify the aft auxiliary fuel tanks on the left and right sides.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Brazilian airworthiness directive 2006-07-03R1, effective January 4, 2007, also addresses the subject of this AD.

Material Incorporated by Reference

(i) You must use EMBRAER Service Bulletin 145LEG-28-0022, dated February 17, 2005, to perform the actions that are required by this AD, unless the AD specifies otherwise. The Director of the Federal Register approved the incorporation by reference of this document in accordance with 5 U.S.C. 552(a) and 1 CFR part 51. Contact Empresa Brasileira de Aeronautica S.A. (EMBRAER), P.O. Box 343—CEP 12.225, Sao Jose dos Campos—SP, Brazil, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 27, 2007.
Ali Bahrami,
Manager, Transport Airplane Directorate, Aircraft Certification Service.

[FR Doc. E7-6230 Filed 4-4-07; 8:45 am]

BILLING CODE 4910-13-P